DEPARTMENT OF TRANSPORTATION

Office of the Secretary

Notice of Applications for Certificates of Public Convenience and Necessity and Foreign Air Carrier Permits Filed Under Subpart B (Formerly Subpart Q) Filed with the Department Between August 4, and August 15, 2003

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Applications filed during week ending: August 8, 2003:

Docket Number: OST-2003-15880.

Date Filed: August 6, 2003.

Due Date for Answers, Conforming Applications, or Motion to Modify Scope: August 27, 2003.

Description: Application of Brasmex Brasil Minas Express Ltda., pursuant to 49 U.S.C. 41301, et seq. and Subpart B, requesting a foreign air carrier permit authorizing it to engage in scheduled and charter foreign air transportation of property and mail between Brazil and the United States.

Docket Number: OST-2003-15893.

Date Filed: August 8, 2003.

Due Date for Answers, Conforming Applications, or Motion to Modify Scope: August 29, 2003.

Description: Application of Scott Aviation, Inc., pursuant to 49 U.S.C. 41102 and Subpart B, requesting a certificate of public convenience and necessity authorizing interstate charter air transportation of persons, property, and mail.

Application filed during week ending: August 15, 2003:

Docket Number: OST-2003-15955.

Date Filed: August 14, 2003.

Due Date for Answers, Conforming Applications, or Motion to Modify Scope: September 9, 2003.

Description: Application of Global Supply Systems Limited, pursuant to 49 U.S.C. 41301, 14 CFR part 211 and Subpart B, requesting a foreign air carrier permit authorizing it to engage in charter foreign air transportation of property and mail between any point or points in the United Kingdom and any point or points in the United States, and other all-cargo charters in accordance with Part 212.

Andrea M. Jenkins,
Program Manager, Docket Operations, Federal Register Liaison.

[FR Doc. 03-22095 Filed 8-28-03; 8:45 am]

BILLING CODE 4910-62-P